Title 3—

The President

Memorandum of June 30, 2023

Certification Regarding Disclosure of Information in Certain Records Related to the Assassination of President John F. Kennedy

Memorandum for the Heads of Executive Departments and Agencies

Section 1. Policy. In the three decades since the President John F. Kennedy Assassination Records Collection Act of 1992 (44 U.S.C. 2107 note) (the “Act”) was enacted, the United States Government has undertaken a comprehensive review of its records and has strived to make available to the public thousands of classified documents that provide a fuller understanding of the tragic assassination of President John F. Kennedy. As I have reiterated throughout my Presidency, I fully support the Act's aim to maximize transparency by disclosing all information in records concerning the assassination, except when the strongest possible reasons counsel otherwise. Executive departments and agencies (agencies) have worked meticulously over thousands of hours of review to ensure that the American people have access to every single word that is appropriate for release under the standards of the Act. With my final certification made in this memorandum—the last required under the Act—and definitive plans for future disclosures, my Administration is fulfilling the promise of transparency to the American people.

Sec. 2. Background. (a) The Act permits the continued postponement of public disclosure of information in records concerning President Kennedy's assassination only when postponement remains necessary to protect against an identifiable harm to the military defense, intelligence operations, law enforcement, or the conduct of foreign relations that is of such gravity that it outweighs the public interest in disclosure. Agencies have applied this statutory standard when proposing the continued postponement of public disclosure of specific information, and the National Archives and Records Administration (NARA) has reviewed each of these redactions to determine whether NARA agrees that these redactions continue to meet the statutory standard. In the Presidential Memorandum of December 15, 2022 (Certifications Regarding Disclosure of Information in Certain Records Related to the Assassination of President John F. Kennedy) (December 2022 Memorandum), I certified the temporary continued postponement of public disclosure of redacted information in a small number of records covered by the Act. At the time, the Acting Archivist of the United States (Acting Archivist) advised that a limited number of records that were the subject of agency proposals for temporary continued postponement warranted further review to ensure that information from these records is disclosed to the maximum extent possible, consistent with the standards of the Act. In the December 2022 Memorandum, consistent with that advice, I directed agencies to continue to work with NARA to review these records to determine if additional information proposed for redaction could be disclosed.

(b) On May 1, 2023, the Acting Archivist informed me that the review process was complete and recommended that I postpone the public release of certain redacted information in the records certified for temporary postponement of public release in the December 2022 Memorandum.

Sec. 3. Certification. In light of the recommendation for continued postponement of public release of information in the records identified in section 2(b) of this memorandum under the statutory standard, I hereby certify, by the authority vested in me as President by the Constitution and the laws of the United States of America, including section 5(g)(2)(D) of the Act, that continued postponement of public disclosure of that information is necessary to protect against identifiable harms to the military defense, intelligence operations, law enforcement, and the conduct of foreign relations that are of such gravity that they outweigh the public interest in disclosure. All information within these records that has been proposed for continued postponement under section 5(g)(2)(D) of the Act shall accordingly be withheld from public disclosure. Future release of the information in these records shall occur in a manner consistent with the Transparency Plans described in section 5 of this memorandum.

Sec. 4. Release. Any information currently withheld from public disclosure under section 4 of the December 2022 Memorandum that is not subject to the certification in section 3 of this memorandum shall be released to the public by June 30, 2023.

Sec. 5. Transparency Plans. As part of their review, each agency prepared a plan for the eventual release of information (Transparency Plan) to ensure that information would continue to be disclosed over time as the identified harm associated with release of the information dissipates. Each Transparency Plan details the event-based or circumstance-based conditions that will trigger the public disclosure of currently postponed information by the National Declassification Center (NDC) at NARA. These Transparency Plans were reviewed by NARA, and the Acting Archivist previously advised me that use of the Transparency Plans by the NDC will ensure appropriate continued release of information covered by the Act. In the December 2022 Memorandum, I directed that the Transparency Plans submitted by agencies be used by the NDC to conduct future reviews of any information that has been postponed from public disclosure. On May 1, 2023, the Acting Archivist recommended continued use of agencies' Transparency Plans to release information covered by the Act. Therefore, I direct the NDC to continue to use the Transparency Plans to conduct future reviews of any information covered by the Act that has been postponed from public disclosure. The Transparency Plans will ensure that the public will have access to the maximum amount of information while continuing to protect against identifiable harms to the military defense, intelligence operations, law enforcement, and the conduct of foreign relations under the standards of the Act.

Sec. 6. Publication. The Archivist of the United States is hereby authorized and directed to publish this memorandum in the Federal Register.

THE WHITE HOUSE,

Washington, June 30, 2023

[FR Doc. 2023-14499

Filed 7-6-23; 8:45 am]

Billing code 7515-01-P